DEPARTMENT OF ENERGY

Federal Energy Regulatory Commission

[Docket No. TM00-1-25-007]

Mississippi River Transmission Corporation; Notice of Compliance Filing

June 12, 2001.

Take notice that on June 5, 2001, Mississippi River Transmission Corporation (MRT) tendered for filing as part of its FERC Gas Tariff, Third Revised Volume No. 1, the following tariff sheets to be effective June 1, 2001:

Forty First Revised Sheet No. 5

Forty First Revised Sheet No. 6

Thirty Eighth Revised Sheet No. 7

MRT states that the purpose of this filing is to comply with the Commission's order dated May 31, 2001 in Docket No. TM00-1-25.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at­ http://www.ferc.fed.us/online/rims.htm (call 202-208-2222 for assistance). Comments, protests and interventions may be filed electronically via the internet in lieu of paper. See, 18 CFR 385.2001(a)(1)(iii) and the instructions on the Commission's web site at­ http://www.ferc.fed.us/efi/doorbell.htm.

David P. Boergers,
Secretary.

[FR Doc. 01-15240 Filed 6-15-01; 8:45 am]

BILLING CODE 6717-01-M